INTERNATIONAL TRADE COMMISSION

Notice of Commission Decision Not to Review an Initial Determination Amending the Complaint and Notice of Investigation

[Inv. No. 337-TA-428]

In the Matter of Certain Integrated Circuit Chipsets, Components Thereof and Products Containing Same.

AGENCY: U.S. International Trade Commission.

ACTION: Notice.

SUMMARY: Notice is hereby given that the U.S. International Trade Commission has determined not to review the presiding administrative law judge's (“ALJ's”) initial determination (“ID”) granting a motion to amend the complaint and notice of investigation to withdraw claims 1-11, 32-36, and 39-48 of U.S. Letters Patent 5,581,782 from the investigation and to amend the notice of investigation by adding to the caption and the text the phrase “components thereof.”

FOR FURTHER INFORMATION CONTACT: Clara Kuehn, Esq., Office of the General Counsel, U.S. International Trade Commission, 500 E Street, SW, Washington, D.C. 20436, telephone (202) 205-3012. Hearing-impaired persons are advised that information on this matter can be obtained by contacting the Commission's TDD terminal on 202-205-1810. General information concerning the Commission may also be obtained by accessing its Internet server (http://www.usitc.gov).

SUPPLEMENTARY INFORMATION: The Commission ordered the institution of this investigation on February 4, 2000, based on a complaint filed by Intel Corp., of Santa Clara, California (“Intel”). 65 FR 7059 (2000). The complaint named five respondents: VIA Technologies, Inc., of Taipei, Taiwan; VIA Technologies, Inc., of Fremont, California (collectively, “VIA”); First International Computer, Inc., of Taipei, Taiwan; First International Computer of America, Inc., of Fremont, California; and Everex Systems, Inc., of Fremont, California (collectively, “FIC”). Id. The complaint, as supplemented, alleges violations of section 337 of the Tariff Act of 1930 in the importation into the United States, sale for importation, and/or sale within the United States after importation of certain integrated circuit chipsets and products containing same by reason of infringement of claims 1-3 and 15-16 of U.S. Letters Patent 5,333,276, claims 1-4, 10, 15, 22, 27-30, 36-37, 44-45, and 49 of U.S. Letters Patent 5,740,385, claims 1-12 and 28-48 of U.S. Letters Patent 5,581,782 (“the ‘782 patent”), and claims 1-31 of U.S. Letters Patent 5,548,733.

On March 29, 2000, complainant Intel filed a motion to amend the complaint and notice of investigation by deleting claims 1-11, 32-36, and 39-48 of the ‘782 patent and by adding the phrase “components thereof” to the text and caption of the notice of investigation. Respondents opposed the motion to the extent that it sought to add the phrase “components thereof” to the notice of investigation. The Commission investigative attorney supported the motion in its entirety.

On April 10, 2000, the presiding ALJ issued an ID (Order No. 6) granting Intel's motion, thereby amending the complaint to delete claims 1-11, 32-36, and 39-48 of the ‘782 patent, and amending the notice of investigation to delete claims 1-11, 32-36, and 39-48 of the ‘782 patent and add the phrase “components thereof” to the caption and the text. No party petitioned for review of the ID.

The authority for the Commission's determination is contained in section 337 of the Tariff Act of 1930, as amended (19 U.S.C. § 1337), and in section 210.42 of the Commission's Rules of Practice and Procedure (19 CFR § 210.42). Copies of the ALJ's ID and all other nonconfidential documents filed in connection with this investigation are or will be available for inspection during official business hours (8:45 a.m. to 5:15 p.m.) in the Office of the Secretary, U.S. International Trade Commission, 500 E Street, S.W., Washington, D.C. 20436, telephone 202-205-2000.

By order of the Commission.
Issued: May 1, 2000.
Donna R. Koehnke
Secretary

[FR Doc. 00-11339 Filed 5-5-00; 8:45 am]

BILLING CODE 7020-02-P